DEPARTMENT OF HOUSING AND URBAN DEVELOPMENT

[Docket No. FR-4975-N-20]

Notice of Proposed Information Collection: Comment Request; Housing Counseling Program—Client Activity Reporting System (CARS)

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: October 7, 2005.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8001, Washington, DC 20410 or Wayne_Eddins@hud.gov.

FOR FURTHER INFORMATION CONTACT: George H. Grotheer, Office of Single Family Program Support Division, Department of Housing and Urban Development, 451 7th Street SW., Washington, DC 20410, telephone (202) 708-0317, x 2294 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Housing Counseling Program—Client Activity Reporting System (CARS).

OMB Control Number, if Applicable: 2502-0261.

Description of the Need for the Information and Proposed Use: HUD is seeking approval for the Client Activity Reporting System (CARS), an automated tool to interface with agencies' client management systems (CMS) to electronically transfer required agency, activity and client information into HUD's Housing Counseling System (HCS). A CMS is an existing online tool that housing counselors are currently using that automates much of the housing counseling process, including client intake, file maintenance, financial and credit analysis, outreach and client notification, and reporting. CARS is the interface system, or bridge, that links these various CMS systems to HUD's housing counseling database facilitating the sharing of data.

A large percentage of HUD-approved housing counseling agencies already use one of the several CMS's that are available through the private sector. A proposed rule for HUD's Housing Counseling Program (FR-4798) would require all HUD-approved counseling agencies to utilize a CMS, but gives them the flexibility to choose from competing products in the market. HUD will issue specifications, including data and other requirements; a CMS vendor must meet to successfully interface with CARS.

In conjunction with CARS, included in this proposal are proposed modifications to the existing form HUD-9902, the traditional performance data collection instrument for the Program, which will be automatically populated by the CMS utilized by the counseling agency and electronically submitted to HUD via CARS. These changes are designed to clarify instructions, capture additional outcomes, and generally enhance the quality of the data collected.

Agency Form Numbers, if Applicable: HUD-9900, HUD-9904, HUD-27300, HUD-2880, HUD-2990, HUD-2991, HUD-2994, HUD-96010, HUD-9902, HUD-9908, HUD-9910.

Estimation of the Total Number of Hours Needed To Prepare the Information Collection Including Number of Respondents, Frequency of Response, and Hours of Response: The estimated total number of hours needed to prepare the information collection is 10,090; the number of respondents is 2,856 generating approximately 10,324 annual responses; the frequency of response is on occasion or quarterly; and the estimated time needed to prepare the response varies from 5 minutes to 18 hours.

Status of the Proposed Information Collection: This is a revision of currently approved collection.

Authority: The Paperwork Reduction Act of 1995, 44 U.S.C., Chapter 35, as amended.

Dated: August 1, 2005.
Frank L. Davis,
General Deputy Assistant Secretary for Housing-Deputy Federal Housing Commissioner.

[FR Doc. 05-15550 Filed 8-5-05; 8:45 am]

BILLING CODE 4210-27-P